DEPARTMENT OF ENERGY

Federal Energy Regulatory Commission

Notice of Intent To File Application for a New License

April 11, 2002.

Take notice that the following notice of intent has been filed with the Commission and is available for public inspection:

a. Type of filing: Notice of Intent to File an Application for New License.

b. Project No: 1051.

c. Date filed: March 28, 2002.

d. Submitted By: Alaska Power & Telephone Company.

e. Name of Project: Dewey Lake Hydroelectric Project.

f. Location: The Dewey Lake Project is located east of downtown Skagway, Alaska.

g. Filed Pursuant to: Section 15 of the Federal Power Act, 18 CFR 16.6.

h. Pursuant to section 16.19 of the Commission's regulations, the licensee is required to make available the information described in section 16.7 of the regulations. Such information is available from the Alaska Power & Telephone Company at 110 Spring Street, Skagway, Alaska.

i. FERC Contact: Alan Mitchnick, 202-219-2826, Alan.Mitchnick@Ferc.Gov.

j. Expiration Date of Current License: August 29, 2007.

k. Project Description: Powerhouse structure with four installed hydro turbines. A 2.71 acre reservoir with an earth and rock filled dam, including an intake structure. Total capacity is 943 kilowatts.

l. The licensee states its unequivocal intent to submit an application for a new license for Project No. 1051. Pursuant to 18 CFR 16.9(b)(1), each application for a new license and any competing license applications must be filed with the Commission at least 24 months prior to the expiration of the existing license. All applications for license for this project must be filed by August 29, 2005.

A copy of the notice of intent is available for inspection and reproduction at the Commission's Public Reference Room, located at 888 First Street, NE., Room 2A, Washington, DC 20426, or by calling (202) 208-1371. The notice may be viewed on http://www.ferc.gov/online/rims.htm call (202) 208-2222 for assistance). A copy is also available for inspection and reproduction at the address in item h above.

Linwood A. Watson, Jr.,
Deputy Secretary.

[FR Doc. 02-9284 Filed 4-16-02; 8:45 am]

BILLING CODE 6717-01-P